DEPARTMENT OF HOMELAND SECURITY

Coast Guard

[Docket No. USCG-2021-0825]

Appointment of RADM William G. Kelly, to the Minority Opportunities and Interest Committee of the National Collegiate Athletic Association

AGENCY: Coast Guard, DHS.

ACTION: Notice.

SUMMARY: The Coast Guard announces the appointment of Rear Admiral William G. Kelly, Superintendent of the Coast Guard Academy, to the Minority Opportunities and Interest Committee (MOIC) of the National Collegiate Athletic Association (NCAA). Publication of this notice is directed by Title 10 of the United States Code. Under this appointment, Rear Admiral Kelly will provide oversight and advice to, and coordination with, the NCAA MOIC, but he will not participate in the day-to-day operations of the NCAA or MOIC.

DATES: The appointment was made on November 16, 2021.

FOR FURTHER INFORMATION CONTACT: For information about this notice call or email CDR Aaron J. Casavant, Coast Guard; telephone 860-444-8255, email Aaron.J.Casavant@uscg.mil.

SUPPLEMENTARY INFORMATION:

Discussion

The National Collegiate Athletic Association (NCAA) is a nonprofit, non-federal entity that regulates and supports the athletic programs of the Coast Guard Academy. The Coast Guard announces the appointment of Rear Admiral (RADM) William G. Kelly, Superintendent of the Coast Guard Academy, to the Minority Opportunities and Interest Committee (MOIC) of the NCAA effective November 16, 2021. RADM Kelly will serve in his official capacity as the Superintendent of the Coast Guard Academy, without additional compensation, providing oversight and advice to, and coordination with, the NCAA MOIC. RADM Kelly's participation will not extend to participation in the day-to-day operations of the NCAA or MOIC.

The NCAA MOIC champions the causes of ethnic minorities in collegiate athletics by fostering an inclusive environment to create a culture that promotes fair and equitable access to opportunities and resources. RADM Kelly's participation in the MOIC will provide the opportunity to support the important mission of the NCAA as well as visibly demonstrate the Coast Guard's commitment to diversity, equity, and inclusion.

This notice is issued under authority of 10 U.S.C. 1033, and Department of Homeland Security Delegation No. 00170.1 (paragraph II.14), Revision No. 01.2.

Dated: December 3, 2021.
E.C. Jones,
Rear Admiral, U.S. Coast Guard, Assistant Commandant for Human Resources.

[FR Doc. 2021-26612 Filed 12-8-21; 8:45 am]

BILLING CODE 9110-04-P